FEDERAL COMMUNICATIONS COMMISSION

Federal Advisory Committee Act; Advisory Committee on Diversity for Communications in the Digital Age

AGENCY: Federal Communications Commission.

ACTION: Notice of public meeting.

SUMMARY: In accordance with the Federal Advisory Committee Act, this notice advises interested persons that the Federal Communications Commission's (FCC) Advisory Committee on Diversity for Communications in the Digital Age (“Diversity Committee”) will hold a meeting on July 28, 2008, at Barnard College, Columbia University, New York. Reports from the subcommittees will be presented. Barbara Kreisman is the Diversity Committee's Designated Federal Officer.

DATES: July 28, 2008.

ADDRESSES: Barnard College, Columbia University, 3009 Broadway, New York, NY 10027.

FOR FURTHER INFORMATION CONTACT: Barbara Kreisman, Designated Federal Officer of the FCC's Diversity Committee (202) 418-1600 or e-mail: Barbara.kreisman@fcc.gov.

SUPPLEMENTARY INFORMATION: At this meeting, the Diversity Committee will discuss and consider possible areas in which to develop recommendations that will further enhance the ability of minorities and women to participate in the telecommunications and related industries. It will also consider issues related to the Federal Communications Commission's En Banc Hearing and Conference on Barriers to Communications Financing.

Members of the general public may attend the meeting. The FCC will attempt to accommodate as many people as possible. However, admittance will be limited to seating availability. The public may submit written comments before the meeting to: Barbara Kreisman, the FCC's Designated Federal Officer for the Diversity Committee by e-mail: Barbara.Kreisman@fcc.gov or U.S. Postal Service Mail (Barbara Kreisman, Federal Communications Commission, Room 2-A665, 445 12th Street, SW., Washington, DC 20554).

Reasonable accommodations for people with disabilities are available upon request. Requests for such accommodations should be submitted via e-mail to fcc504@fcc.gov or by calling the Consumer & Governmental Affairs Bureau at (202) 418-0530 (voice), (202) 418-0432 (tty). Such requests should include a detailed description of the accommodation needed. In addition, please include a way we can contact you if we need more information. Please allow at least five days advance notice; last minute requests will be accepted, but may be impossible to fill.

Additional information regarding the Diversity Committee can be found at http://www.fcc.gov/DiversityFACA.

Federal Communications Commission.
Barbara Kreisman,
Chief, Video Division.

[FR Doc. E8-16030 Filed 7-15-08; 8:45 am]

BILLING CODE 6712-01-P